DEPARTMENT OF HEALTH AND HUMAN SERVICES

Centers for Disease Control and Prevention

[60Day-21-0666; Docket No. CDC-2021-0100]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled National Healthcare Safety Network (NHSN). NHSN is the nation's most widely used healthcare-associated infection tracking system, providing facilities, states, regions, and the nation with data needed to identify problem areas, measure progress of prevention efforts, and ultimately eliminate healthcare-associated infections.

DATES: CDC must receive written comments on or before November 26, 2021.

ADDRESSES: You may submit comments, identified by Docket No. CDC-2020-0100 by any of the following methods:

• Federal eRulemaking Portal: Regulations.gov. Follow the instructions for submitting comments.

• Mail: Jeffrey M. Zirger, Information Collection Review Office, Centers for Disease Control and Prevention, 1600 Clifton Road NE, Mailstop H21-8, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, Mailstop H21-8, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Healthcare Safety Network (NHSN) (OMB Control No. 0920-0666, Exp. 12/31/2023)—Revision—National Center for Emerging and Zoonotic Infection Diseases (NCEZID), Centers for Disease Control and Prevention (CDC).

Background and Brief Description

The Division of Healthcare Quality Promotion (DHQP), National Center for Emerging and Zoonotic Infectious Diseases (NCEZID), Centers for Disease Control and Prevention (CDC) collects data from healthcare facilities in the National Healthcare Safety Network (NHSN) (OMB Control Number 0920-0666). NHSN provides facilities, states, regions, and the nation with data necessary to identify problem areas, measure the progress of prevention efforts, and ultimately eliminate healthcare-associated infections (HAIs) nationwide. NHSN allows healthcare facilities to track blood safety errors and various healthcare-associated infection prevention practice methods such as healthcare personnel influenza vaccine status and corresponding infection control adherence rates.

NHSN currently has six components: Patient Safety (PS), Healthcare Personnel Safety (HPS), Biovigilance (BV), Long-Term Care Facility (LTCF), Outpatient Procedure (OPC), and the Dialysis Component. NHSN's planned Neonatal Component is expected to launch during the winter of 2021, and will focus on premature neonates and the healthcare-associated events that occur as a result of their prematurity. This component will be released with one module, which includes Late Onset-Sepsis (LOS) and Meningitis. LOS and Meningitis are common complications of extreme prematurity. These infections result in a prolongation of hospital stay, increased cost, and risk of morbidity and mortality. The data for this module will be electronically submitted, allowing more hospital personnel to be available to care for patients and reducing annual burden across healthcare facilities. Additionally, LOS data will be utilized for prevention initiatives.

Data reported under the Patient Safety Component are used to determine the magnitude of the healthcare-associated adverse events and trends in the rates of events, in the distribution of pathogens, and in the adherence to prevention practices. Data will help detect changes in the epidemiology of adverse events resulting from new medical therapies and changing patient risks. Additionally, reported data is being used to describe the epidemiology of antimicrobial use and resistance, and to better understand the relationship of antimicrobial therapy to this rising problem.

Under the Healthcare Personnel Safety Component (HPS), protocols and data on events—both positive and adverse—are used to determine; (1) the magnitude of adverse events in healthcare personnel, and (2) compliance with immunization and sharps injuries safety guidelines.

The Biovigilance (BV) Component collects data on adverse reactions and incidents associated with blood transfusions. Data is reported and analyzed to provide national estimates of adverse reactions and incidents.

Under the Long-Term Care Facility (LTCF) Component, data is captured from skilled nursing facilities. Reporting methods under the LTCF component have been created by using forms from the PS Component as a model with modifications to specifically address the specific characteristics of LTCF residents and the unique data needs of these facilities reporting into NHSN. The Respiratory Tract Infection Form (RTI), titled “Denominators for Healthcare Associated Infections (HAIs): Respiratory Tract Infections,” will not to be used by NHSN users, but rather as part of an EIP project with 4 EIP sites. The purpose of this form is to allow testing prior to introducing a new module and forms to NHSN users. The CDC's Epidemiology Research & Innovations Branch (ERIB) team will use the form to perform field testing of variables to explore the utilization, applicability, and data collection burden associated with these variables. This process will inform areas of improvement prior to incorporating the new module, including protocol, forms, and instructions into NHSN.

The Dialysis Component offers a simplified user interface for dialysis users to streamline their data entry and analyses processes, as well as provide options for expanding in the future to include dialysis surveillance in settings other than outpatient facilities.

The Outpatient Procedure Component (OPC) gathers data on the impact of infections and outcomes related to operative procedures performed in Ambulatory Surgery Centers (ASCs). The OPC is used to monitor two event types: Same Day Outcome Measures and Surgical Site Infections (SSIs).

NHSN has increasingly served as the operating system for HAI reporting compliance through legislation established by the states. As of April 2020, 36 states, the District of Columbia and the City of Philadelphia, Pennsylvania have opted to use NHSN as their primary system for mandated reporting. Reporting compliance is completed by healthcare facilities in their respective jurisdictions, with emphasis on those states and municipalities acquiring varying consequences for failure to use NHSN. Additionally, healthcare facilities in five U.S. territories (Puerto Rico, American Samoa, the U.S. Virgin Islands, Guam, and the Northern Mariana Islands) are voluntarily reporting to NHSN. Additional territories are projected to follow with similar use of NHSN for reporting purposes.

NHSN's data is used to aid in the tracking of HAIs and guide infection prevention activities/practices that protect patients. The Centers for Medicare and Medicaid Services (CMS)and other payers use these data to determine incentives for performance at healthcare facilities across the U.S. and surrounding territories, and members of the public may use some protected data to inform their selection among available providers. Each of these parties is dependent on the completeness and accuracy of the data. CDC and CMS work closely and are fully committed to ensuring complete and accurate reporting, which are critical for protecting patients and guiding national, state, and local prevention priorities. CMS collects some HAI data and healthcare personnel influenza vaccination summary data, which is done on a voluntary basis as part of its Fee-for-Service Medicare quality reporting programs, while others may report data required by a federal mandate. Facilities that fail to report quality measure data are subject to partial payment reduction in the applicable Medicare Fee-for-Service payment system. CMS links their quality reporting to payment for Medicare-eligible acute care hospitals, inpatient rehabilitation facilities, long-term acute care facilities, oncology hospitals, inpatient psychiatric facilities, dialysis facilities, and ambulatory surgery centers. Facilities report HAI data and healthcare personnel influenza vaccination summary data to CMS via NHSN as part of CMS's quality reporting programs to receive full payment.

Still, many healthcare facilities, even in states without HAI reporting legislation, submit limited HAI data to NHSN voluntarily. NHSN's data collection updates continue to support the incentive programs managed by CMS. For example, survey questions support requirements for CMS' quality reporting programs. Additionally, CDC has collaborated with CMS on a voluntary National Nursing Home Quality Collaborative, which focuses on recruiting nursing homes to report HAI data to NHSN and to retain their continued participation.

NHSN was previously approved in December 2020 for 1,321,991 burden hours. The proposed changes in this new ICR include revisions to 10 data collection forms and no new forms for a total of 86 proposed data collection forms. In this Revision, CDC requests OMB approval for an estimated 1,718,591 annual burden hours.

Estimated Annualized Burden Hours
Form number & name | Number of respondents | Number of responses per respondent | Avg. burden per response (hours) | Total burden (hours)
57.100 NHSN Registration Form | 2,000 | 1 | 5/60 | 167
57.101 Facility Contact Information | 2,000 | 1 | 10/60 | 333
57.103 Patient Safety Component—Annual Hospital Survey | 6,765 | 1 | 90/60 | 10,148
57.104 Facility Administrator Change Request Form | 800 | 1 | 5/60 | 67
57.105 Group Contact Information | 1,000 | 1 | 5/60 | 83
57.106 Patient Safety Monthly Reporting Plan | 7,821 | 12 | 15/60 | 23,463
57.108 Primary Bloodstream Infection (BSI) | 5,775 | 5 | 38/60 | 18,288
57.111 Pneumonia (PNEU) | 1,800 | 2 | 30/60 | 1,800
57.112 Ventilator-Associated Event | 5,463 | 8 | 28/60 | 20,395
57.113 Pediatric Ventilator-Associated Event (PedVAE) | 334 | 1 | 30/60 | 167
57.114 Urinary Tract Infection (UTI) | 6,000 | 5 | 20/60 | 10,000
57.115 Custom Event | 600 | 91 | 35/60 | 31,850
57.116 Denominators for Neonatal Intensive Care Unit (NICU) | 1,100 | 12 | 4/60 | 880
57.117 Denominators for Specialty Care Area (SCA)/Oncology (ONC) | 500 | 12 | 5/60 | 500
57.118 Denominators for Intensive Care Unit (ICU)/Other locations (not NICU or SCA) | 5,500 | 60 | 5/60 | 27,500
57.120 Surgical Site Infection (SSI) | 6,000 | 9 | 35/60 | 31,500
57.121 Denominator for Procedure | 6,000 | 602 | 10/60 | 602,000
57.122 HAI Progress Report State Health Department Survey | 55 | 1 | 28/60 | 26
57.123 Antimicrobial Use and Resistance (AUR)—Microbiology Data Electronic Upload Specification Tables | 2,500 | 12 | 5/60 | 2,500
57.124 Antimicrobial Use and Resistance (AUR)—Pharmacy Data Electronic Upload Specification Tables | 2,500 | 12 | 5/60 | 2,500
57.125 Central Line Insertion Practices Adherence Monitoring | 500 | 213 | 25/60 | 44,375
57.126 MDRO or CDI Infection Form | 720 | 11 | 30/60 | 3,960
57.127 MDRO and CDI Prevention Process and Outcome Measures Monthly Monitoring | 5,500 | 29 | 15/60 | 39,875
57.128 Laboratory-identified MDRO or CDI Event | 4,800 | 79 | 20/60 | 126,400
57.129 Adult Sepsis | 50 | 250 | 25/60 | 5,208
57.135 Late Onset Sepsis/Meningitis Denominator Form: Data Table for monthly electronic upload | 300 | 6 | 5/60 | 150
57.136 Late Onset Sepsis/Meningitis Event Form: Data Table for Monthly Electronic Upload | 300 | 6 | 5/60 | 150
57.137 Long-Term Care Facility Component—Annual Facility Survey | 17,700 | 1 | 120/60 | 35,400
57.138 Laboratory-identified MDRO or CDI Event for LTCF | 1,998 | 24 | 20/60 | 15,984
57.139 MDRO and CDI Prevention Process Measures Monthly Monitoring for LTCF | 1,998 | 12 | 20/60 | 7,992
57.140 Urinary Tract Infection (UTI) for LTCF | 339 | 36 | 35/60 | 7,119
57.141 Monthly Reporting Plan for LTCF | 2011 | 12 | 5/60 | 2,011
57.142 Denominators for LTCF Locations | 339 | 12 | 35/60 | 2,373
57.143 Prevention Process Measures Monthly Monitoring for LTCF | 130 | 12 | 5/60 | 130
57.150 LTAC Annual Survey | 620 | 1 | 82/60 | 847
57.151 Rehab Annual Survey | 1,340 | 1 | 82/60 | 1,831
57.200 Healthcare Personnel Safety Component Annual Facility Survey | 50 | 1 | 480/60 | 400
57.204 Healthcare Worker Demographic Data | 50 | 200 | 20/60 | 3,333
57.205 Exposure to Blood/Body Fluids | 50 | 50 | 60/60 | 2,500
57.206 Healthcare Worker Prophylaxis/Treatment | 50 | 30 | 15/60 | 375
57.207 Follow-Up Laboratory Testing | 50 | 50 | 15/60 | 625
57.210 Healthcare Worker Prophylaxis/Treatment-Influenza | 50 | 50 | 10/60 | 417
57.300 Hemovigilance Module Annual Survey | 500 | 1 | 85/60 | 708
57.301 Hemovigilance Module Monthly Reporting Plan | 500 | 12 | 60/60 | 6,000
57.303 Hemovigilance Module Monthly Reporting Denominators | 500 | 12 | 70/60 | 7,000
57.305 Hemovigilance Incident | 500 | 10 | 10/60 | 833
57.306 Hemovigilance Module Annual Survey—Non-acute care facility | 500 | 1 | 35/60 | 292
57.307 Hemovigilance Adverse Reaction—Acute Hemolytic Transfusion Reaction | 500 | 4 | 20/60 | 667
57.308 Hemovigilance Adverse Reaction—Allergic Transfusion Reaction | 500 | 4 | 20/60 | 667
57.309 Hemovigilance Adverse Reaction—Delayed Hemolytic Transfusion Reaction | 500 | 1 | 20/60 | 167
57.310 Hemovigilance Adverse Reaction—Delayed Serologic Transfusion Reaction | 500 | 2 | 20/60 | 333
57.311 Hemovigilance Adverse Reaction—Febrile Non-hemolytic Transfusion Reaction | 500 | 4 | 20/60 | 667
57.312 Hemovigilance Adverse Reaction—Hypotensive Transfusion Reaction | 500 | 1 | 20/60 | 167
57.313 Hemovigilance Adverse Reaction—Infection | 500 | 1 | 20/60 | 167
57.314 Hemovigilance Adverse Reaction—Post Transfusion Purpura | 500 | 1 | 20/60 | 167
57.315 Hemovigilance Adverse Reaction—Transfusion Associated Dyspnea | 500 | 1 | 20/60 | 167
57.316 Hemovigilance Adverse Reaction—Transfusion Associated Graft vs. Host Disease | 500 | 1 | 20/60 | 167
57.317 Hemovigilance Adverse Reaction—Transfusion Related Acute Lung Injury | 500 | 1 | 20/60 | 167
57.318 Hemovigilance Adverse Reaction—Transfusion Associated Circulatory Overload | 500 | 2 | 20/60 | 333
57.319 Hemovigilance Adverse Reaction—Unknown Transfusion Reaction | 500 | 1 | 20/60 | 167
57.320 Hemovigilance Adverse Reaction—Other Transfusion Reaction | 500 | 1 | 20/60 | 167
57.400 Outpatient Procedure Component—Annual Facility Survey | 700 | 1 | 10/60 | 117
57.401 Outpatient Procedure Component—Monthly Reporting Plan | 700 | 12 | 15/60 | 2,100
57.402 Outpatient Procedure Component Same Day Outcome Measures | 200 | 1 | 40/60 | 133
57.403 Outpatient Procedure Component—Monthly Denominators for Same Day Outcome Measures | 200 | 400 | 40/60 | 53,333
57.404 Outpatient Procedure Component—SSI Denominator | 700 | 100 | 40/60 | 46,667
57.405 Outpatient Procedure Component—Surgical Site (SSI) Event | 700 | 5 | 40/60 | 2,333
57.500 Outpatient Dialysis Center Practices Survey | 7,200 | 1 | 12/60 | 1,440
57.501 Dialysis Monthly Reporting Plan | 7,200 | 12 | 5/60 | 7,200
57.502 Dialysis Event | 7,200 | 30 | 25/60 | 90,000
57.503 Denominator for Outpatient Dialysis | 7,200 | 30 | 10/60 | 36000
57.504 Prevention Process Measures Monthly Monitoring for Dialysis | 1,730 | 12 | 75/60 | 25,950
57.505 Dialysis Patient Influenza Vaccination | 615 | 50 | 10/60 | 5,125
57.506 Dialysis Patient Influenza Vaccination Denominator | 615 | 5 | 10/60 | 513
57.507 Home Dialysis Center Practices Survey | 430 | 1 | 30/60 | 215
Weekly Healthcare Personnel Influenza Vaccination Cumulative Summary for Non-Long-Term Care Facilities | 125 | 52 | 60/60 | 6,500
Weekly Healthcare Personnel Influenza Vaccination Cumulative Summary for Long-Term Care Facilities | 1,200 | 52 | 60/60 | 62,400
Weekly Resident Influenza Vaccination Cumulative Summary for Long-Term Care Facilities | 2,500 | 52 | 60/60 | 130,000
Annual Healthcare Personnel Influenza Vaccination Summary | 5,000 | 1 | 120/60 | 10,000
Total |  |  |  | 1,718,591

Jeffrey M. Zirger,
Lead, Information Collection Review Office, Office of Scientific Integrity, Office of Science, Centers for Disease Control and Prevention.

[FR Doc. 2021-20846 Filed 9-24-21; 8:45 am]

BILLING CODE 4163-18-P